DEPARTMENT OF JUSTICE

Notice of Lodging of Proposed Consent Decree Under The Clean Air Act

On December 13, 2021, the Department of Justice lodged a proposed consent decree with the United States District Court for the District of Rhode Island, in the lawsuit entitled United States v. City of Woonsocket and Synagro Northeast, LLC, Civil Action No. 1:21-c-491.

The United States filed this lawsuit under Sections 113(b) and 129(f) of the Clean Air Act, 42 U.S.C. 7413(b), 7429(f) and 40 CFR part 62, subpart LLL, against the owner and operator of a sewage sludge incinerator at a municipal wastewater treatment facility in Woonsocket, Rhode Island. The complaint seeks civil penalties and injunctive relief arising from alleged violations of requirements to (1) submit monthly status reports, a final control plan, and a site-specific monitoring plan; (2) perform required testing; (3) meet emission limits for sulfur dioxide and hydrochloric acid; and (4) establish and meet operating limits. The consent decree requires the settling defendants to pay a civil penalty of $373,660, plus interest, and to take measures to bring the facility into compliance.

By this notice, the Department of Justice opens a period of public comment on the proposed consent decree for thirty (30) days from the date of publication of this notice. Comments should be addressed to the Assistant Attorney General, Environment and Natural Resources Division, and should refer to United States v. City of Woonsocket and Synagro Northeast, LLC, D.J. Ref. No. 90-5-2-1-12275. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. Paper copies of the consent decree are available upon written request and payment of reproduction costs. Such requests and payments should be addressed to:

Consent Decree Library, U.S. DOJ—ENRD, P.O. Box 7611, Washington, DC 20044-7611

With each such request, please enclose a check or money order for $10.75 (25 cents per page reproduction cost) per paper copy, payable to the United States Treasury.

Henry S. Friedman,
Assistant Section Chief, Environmental Enforcement Section, Environment and Natural Resources Division.

[FR Doc. 2021-27524 Filed 12-20-21; 8:45 am]

BILLING CODE 4410-15-P